DEPARTMENT OF TRANSPORTATION

Research and Special Programs Administration

Office of Hazardous Materials Safety; Notice of Application for Exemptions

AGENCY: Research and Special Programs Administration, DOT.

ACTION: List of applications for exemption.

SUMMARY: In accordance with the procedures governing the application for, and the processing of, exemptions from the Department of Transportation's Hazardous Material Regulations (49 CFR part 107, subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before November 26, 2004.

ADDRESSES: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemption is published in accordance with part 107 of the Federal hazardous materials transportation law (49 U.S.C. 5117(b); 49 CFR 1.53(b)).

Issued in Washington, DC, on October 19, 2004.
R. Ryan Posten,
Exemptions Program Officer, Office of Hazardous Materials Safety, Exemptions & Approvals.

New Exemption
Application No. | Docket No. | Applicant | Regulation(s) affected | Nature of exemption thereof
13936-N | RSPA-2004-19300 | Dow Chemical Company Midland, MI | 49 CFR 172.203(a); 173.26 and 179.13 | To authorize the transportation in commerce of DOT 112S specification tank cars that exceed the weight requirement for transporting certain hazardous materials. (mode 2)
13937-N | RSPA-2004-19318 | Questar, Inc. North Canton, OH | 49 CFR 173.12(b)(2) | To authorize the manufacture, marking and sale of a corrugated fiberboard box for use as the outer packaging for lab pack applications. (mode 1)
13938-N | RSPA-2004-19317 | Questar, Inc. North Canton, OH | 49 CFR 173.12(b)(2) | To authorize the manufacture, mark, sale and use of corrugated fiberboard boxes for use as the outer packaging for lab pack applications. (mode 1)
13956-N | RSPA-2004-19320 | U.S. Department of Energy (DOE) Washington, DC | 49 CFR 173.244 | To authorize the one-time, one-way transportation in commerce of two inductions pumps, containing residual amounts of Sodium, Division 4.3 (mode 1)
13957-N | RSPA-2004-19321 | T.L.C.C.I, Inc. | 49 CFR 173.304a(a)(1) and 175.3 | To authorize the manufacture, marking and sale and use of domestically-manufactured composite cylinders to be used in the transportation of certain flammable and nonflammable gases. (modes 1, 2, 3, 4)
13958-N | RSPA-2004-19309 | Department of Defense Fort Eustis, VA | 49 CFR 173.427(b) | To authorize the transportation in commerce of gondola cars equipped with a specially designed liner to be classified as an IP-2 package for use in transporting certain Class 7 hazardous materials. (mode 2)
13959-N | RSPA-2004-19313 | Koch Nitrogen company Wichita, KS | 49 CFR 177.834(i)(3) | To authorize cargo tanks to remain connected while standing without the physical presence of an unloader anhydrous ammonia, Division 2.2. (mode 1)
13960-N | RSPA-2004-19296 | Terumo Heart, Inc. Ann Arbor, MI | 49 CFR 173.185 | To authorize the transportation in commerce of a specially designed medical device equipped with lithium ion battery module. (modes 1, 4)
13961-N | RSPA-2004-19297 | 3AL Testing, Corp. Miami, FL | 49 CFR 180.205(f), (g); 180.209(a); 172.203(a); 172.301(c) | To authorize an alternative requalification method for DOT-3AL cylinders. (modes 1, 3, 4)
13962-N | RSPA-2004-19298 | Department of Energy, Washington, DC | 49 CFR 173.453(d) | To authorize the one-time, one-way transportation of certain IP-1 drums containing low-enriched uranium oxide. (mode 1)
13963-N | RSPA-2004-19299 | Duratek Columbia, SC | 49 CFR 173.403; 173.427; 173.465 | To authorize the manufacture, marking, sale and use of specially designed packaging for transporting used nuclear reactor pressure vessel heads. (modes 1, 2, 6)

[FR Doc. 04-23880 Filed 10-25-04; 8:45 am]

BILLING CODE 4909-60-M